DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Advisory Committee on Arlington National Cemetery (“the Committee”).

FOR FURTHER INFORMATION CONTACT: Jim Freeman, Advisory Committee Management Officer for the Department of Defense, 703-692-5952.

SUPPLEMENTARY INFORMATION: This committee's charter is being renewed pursuant to 10 U.S.C. 4723 and under the provisions of the Federal Advisory Committee Act of 1972 (5 U.S.C. Appendix, as amended), the Government in the Sunshine Act of 1976 (5 U.S.C. 552b) (“the Sunshine Act”), and 41 CFR 102-3.50(d).

The Committee is a non-discretionary Federal advisory committee that shall make periodic reports and recommendations to the Secretary of the Army with respect to the administration of Arlington National Cemetery, the erection of memorials at the cemetery, and master planning for the cemetery. Any and all advice and recommendations shall also be forwarded to the Secretary of Defense or the Deputy Secretary of Defense.

The Secretary of the Army may act upon the Committee's advice and recommendations. Not later than 90 days after receiving a report or recommendations from the Committee, the Secretary of the Army shall submit the report or recommendations to the congressional defense committees and the Committees on Veterans' Affairs of the Senate and House of Representatives and include such comments and recommendations as the Secretary of the Army considers appropriate.

The Department of Defense (DoD), through the Department of the Army, shall provide support deemed necessary for the Committee's performance of its functions and shall ensure compliance with the requirements of the FACA, the Government in the Sunshine Act of 1976 (5 U.S.C. 552b, as amended) (“the Sunshine Act”), governing Federal statutes and regulations, and established DoD policies and procedures.

The Committee shall be comprised of no more than nine members, who are eminent authorities in their respective fields of interest or expertise, specifically bereavement practices and administrative oversight, the erection of memorials, and master planning for extending the life of the cemetery, including one member nominated by the Secretary of Veterans Affairs, one member nominated by the Secretary of the American Battle Monuments Commission, and no more than seven members nominated by the Secretary of the Army.

Committee members shall serve a term of service of one-to-four years, but no member may serve more than two consecutive terms of service without approval from the Secretary of Defense or the Deputy Secretary of Defense.

Committee members appointed by the Secretary of Defense or the Deputy Secretary of Defense, who are not full-time Federal officers or employees, shall be appointed as experts or consultants pursuant to 5 U.S.C. 3109,to serve as special government employee (SGE) members. Those individuals serving on the Committee who are full-time or permanent part-time Federal employees shall be appointed to serve as regular government employee (RGE) members pursuant to 41 CFR 102-3.130(a).

The Secretary of the Army will designate, for Secretary of Defense or Deputy Secretary of Defense approval, the Committee's chair from the total approved membership. With the exception of reimbursement for official Committee-related travel and per diem, Committee members shall serve without compensation.

DoD, when necessary and consistent with the Committee's mission and DoD policies and procedures, may establish subcommittees, task forces, or working groups to support the Committee. Establishment of subcommittees will be based upon a written determination, to include terms of reference, by the Secretary of Defense, the Deputy Secretary of Defense, or the Secretary of the Army, as the DoD Sponsor.

Such subcommittees shall not work independently of the Committee and shall report all of their recommendations and advice solely to the Committee for full and open deliberation and discussion. Subcommittees, task forces, or working groups have no authority to make decisions and recommendations, verbally or in writing, on behalf of the Committee. No subcommittee or any of its members can update or report, verbally or in writing, on behalf of the Committee, directly to the DoD or any Federal officer or employee.

The Secretary of Defense or the Deputy Secretary of Defense shall appoint subcommittee members to a term of service of one-to-four years, even if the member in question is a member of the Committee. Subcommittee members shall not serve more than two consecutive terms of service unless authorized by the Secretary of Defense or the Deputy Secretary of Defense. Subcommittee members, if not full-time or permanent part-time Federal employees, will be appointed as experts or consultants, pursuant to 5 U.S.C. 3109, to serve as SGE members, whose appointments must be renewed on an annual basis. Those individuals who are full-time or permanent part-time Federal employees shall be appointed to serve as RGE members, pursuant to 41 CFR 102-3.130(a). With the exception of reimbursement of official travel and per diem related to the Committee or its subcommittees, subcommittee members shall serve without compensation.

All subcommittees operate under the provisions of FACA, the Sunshine Act, governing Federal statutes and regulations, and established DoD policies and procedures.

The Committee has three permanent subcommittees. Each subcommittee member should have extensive professional experience in at least one of the following areas of operation and management of cemeteries: Bereavement practices; erection of memorials and master planning; plans and strategies for addressing long-term governance challenges; and resource planning and allocation.

a. The Honor Subcommittee shall be comprised of no more than nine members. The primary focus of this subcommittee is to review and provide recommendations to the Committee regarding methods to address the long-term future of the Arlington National Cemetery, including how best to extend the active burials and what Arlington National Cemetery should focus on once all available space has been used. The estimated number of subcommittee meetings is up to nine per year.

b. The Remember Subcommittee shall be comprised of no more than nine members. The primary focus of this subcommittee is to review and provide recommendations to the Committee on an independent assessment of methods to maintain the Tomb of the Unknown Soldier Monument, including the cracks in the large marble sarcophagus, the adjacent marble slabs, and the potential replacement marble stone for the sarcophagus already gifted to the Army. The estimated number of subcommittee meetings is up to nine per year.

c. The Explore Subcommittee shall be comprised of no more than nine members. The primary focus of this subcommittee is to review and provide recommendations to the Committee on efforts to preserve the historic essence of Arlington National Cemetery and the development of an interactive means to share the Cemetery's unique history with the nation and the world, including an independent assessment of methods to address the issues dealing with capturing and conveying the Army national cemeteries' history, including examining Arlington National Cemetery Section 60 gravesite mementos and improving the quality of visitors' experiences now and for generations to come. The estimated number of subcommittee meetings is up to nine per year.

The estimated number of Committee meetings is four per year.

The Committee's Designated Federal Officer (DFO) shall be a full-time or permanent part-time DoD employee and shall be appointed in accordance with established DoD policies and procedures.

The Committee's DFO, pursuant to DoD policy, shall be a full-time or permanent part-time DoD employee, and shall be appointed in accordance with established DoD policies and procedures.

The Committee's DFO is required to be in attendance at all meetings of the Committee and any subcommittees for the entire duration of each and every meeting; however, in the absence of the DFO, a properly approved Alternate DFO shall attend the entire duration of all of the meetings of the Committee and its subcommittees.

The DFO, or the Alternate DFO, shall call all meetings of the Committee and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Advisory Committee on Arlington National Cemetery membership about the Committee's mission and functions. Written statements may be submitted at any time or in response to the stated agenda of planned meeting of Advisory Committee on Arlington National Cemetery.

All written statements shall be submitted to the DFO for the Advisory Committee on Arlington National Cemetery, and this individual will ensure that the written statements are provided to the membership for their consideration. Contact information for the Advisory Committee on Arlington National Cemetery DFO can be obtained from the GSA's FACA Database— http://www.facadatabase.gov/.

The DFO, pursuant to 41 CFR 102-3.150, will announce planned meetings of the Advisory Committee on Arlington National Cemetery. The DFO, at that time, may provide additional guidance on the submission of written statements that are in response to the stated agenda for the planned meeting in question.

Dated: July 31, 2014.
Aaron Siegel,
Alternate OSD Federal Register Liaison Officer, Department of Defense.

[FR Doc. 2014-18504 Filed 8-5-14; 8:45 am]

BILLING CODE 5001-06-P